DEPARTMENT OF ENERGY

Office of Nonproliferation Policy; Proposed Subsequent Arrangement

AGENCY: Department of Energy.

ACTION: Notice; subsequent arrangement.

SUMMARY: This notice has been issued under the authority of section 131 of the Atomic Energy Act of 1954, as amended (42 U.S.C. 2160). The Department is providing notice of a proposed subsequent arrangement under the Agreement for Cooperation in the Peaceful Uses of Nuclear Energy between the United States and the European Atomic Energy Community (EURATOM) and the Agreement for Cooperation Between the Government of the United States of America and the Government of the Kingdom of Morocco Concerning Peaceful Uses of Nuclear Energy.

This subsequent arrangement concerns the retransfer of 106 TRIGA fuel elements containing 20,433.47 g of U.S.-origin natural uranium, 4,058.73 g of U-235, from CERCA, F-92084 Paris La Defense, France to the la Maamora Nuclear Research Center of the Center of National Energy, Sciences, and Nuclear Techniques (CNESTEN), Morocco. The material, which is now located at CERCA facilities in Romans, France, will be transferred to Morocco for use in the CNESTEN TRIGA Research Reactor in la Maamora Research Center near Rabat, Morocco. The transferred fuel will be used in the first core of the TRIGA Mark II Research Reactor at La Maamora. CERCA originally obtained the material from General Atomics under NRC Export License Number XSNM02644, Amendment No. 2.

In accordance with Section 131 of the Atomic Energy Act of 1954, as amended, we have determined that this subsequent arrangement is not inimical to the common defense and security.

This subsequent arrangement will take effect no sooner than fifteen days after the date of publication of this notice.

Dated: December 2, 2005.
For the Department of Energy.
Richard Goorevich,
Director, Office of International Regimes and Agreements.

[FR Doc. 05-23912 Filed 12-8-05; 8:45 am]

BILLING CODE 6450-01-P